ENVIRONMENTAL PROTECTION AGENCY

40 CFR Part 52

[EPA-R05-OAR-2023-0190; FRL-12117-01-R5]

Air Plan Approval; Indiana; Ozone SIP Modifications Due to the Municipal Solid Waste Landfill Update

AGENCY: Environmental Protection Agency (EPA).

ACTION: Proposed rule.

SUMMARY: The Environmental Protection Agency (EPA) is proposing to approve the Indiana Department of Environmental Management's request to repeal and replace portions of the Indiana Administrative Code (IAC) for Lake, Porter, Clark, and Floyd Counties in Indiana. This new regulation includes Federal updates to municipal solid waste landfill rules with the incorporation by reference of the Federal plan for Municipal Solid Waste Landfills. EPA is proposing that this action is approvable because it is consistent with the EPA's Emission Guidelines for Municipal Solid Waste Landfills and is a SIP strengthening measure.

DATES: Comments must be received on or before September 16, 2024.

ADDRESSES: Submit your comments, identified by Docket ID No. EPA-R05-OAR-2023-0190 at https://www.regulations.gov or via email to arra.sarah@epa.gov. For comments submitted at https://www.regulations.gov, follow the online instructions for submitting comments. Once submitted, comments cannot be edited or removed from the docket. EPA may publish any comment received to its public docket. Do not submit electronically any information you consider to be Confidential Business Information (CBI), Proprietary Business Information (PBI), or other information whose disclosure is restricted by statute. Multimedia submissions (audio, video, etc.) must be accompanied by a written comment. The written comment is considered the official comment and should include discussion of all points you wish to make. EPA will generally not consider comments or comment contents located outside of the primary submission (i.e. on the web, cloud, or other file sharing system). For additional submission methods, please contact the person identified in the FOR FURTHER INFORMATION CONTACT section. For the full EPA public comment policy, information about CBI, PBI, or multimedia submissions, and general guidance on making effective comments, please visit https://wwww.epa.gov/dockets/commenting-epa-dockets.

FOR FURTHER INFORMATION CONTACT: Katie Mullen, Air and Radiation Division (AR-18J), Environmental Protection Agency, Region 5, 77 West Jackson Boulevard, Chicago, Illinois 60604, (312) 353-3490, mullen.kathleen@epa.gov. The EPA Region 5 office is open from 8:30 a.m. to 4:30 p.m., Monday through Friday, excluding Federal holidays.

SUPPLEMENTARY INFORMATION: The Environmental Protection Agency (EPA) is proposing to approve the Indiana Department of Environmental Management's request to repeal 326 Indiana Administrative Code (IAC) 8-8 for Lake, Porter, Clark, and Floyd Counties in Indiana, and replace it with 326 IAC 8-8.2. In the “Rules and Regulations” section of this Federal Register, EPA is approving the State's SIP submittal as a direct final rule without prior proposal because the Agency views this as a noncontroversial submittal and anticipates no adverse comments. A detailed rationale for the approval is set forth in the direct final rule. If no relevant adverse comments are received in response to this rule, no further activity is contemplated. If EPA receives such comments, the direct final rule will be withdrawn and all public comments received will be addressed in a subsequent final rule based on this proposed rule. EPA will not institute a second comment period. Any parties interested in commenting on this action should do so at this time. Please note that if EPA receives adverse comment on an amendment, paragraph, or section of this rule and if that provision may be severed from the remainder of the rule, EPA may adopt as final those provisions of the rule that are not the subject of an adverse comment. For additional information, see the direct final rule which is located in the Rules section of this Federal Register.

Dated: August 7, 2024.
Debra Shore,
Regional Administrator, Region 5.

[FR Doc. 2024-17990 Filed 8-15-24; 8:45 am]

BILLING CODE 6560-50-P